DEPARTMENT OF THE INTERIOR

National Park Service

National Register of Historic Places; Weekly Listing of Historic Properties

Pursuant to (36CFR60.13(b,c)) and (36CFR63.5), this notice, through publication of the information included herein, is to appraise the public as well as governmental agencies, associations and all other organizations and individuals interested in historic preservation, of the properties added to, or determined eligible for listing in, the National Register of Historic Places from November 24 to November 28, 2008.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: January 6, 2009.
J. Paul Loether,
Chief, National Register of Historic Places/National Historic Landmarks Program.

KEY: State, County, Property Name, Address/Boundary, City, Vicinity, Reference Number, NHL, Action, Date, Multiple Name

DISTRICT OF COLUMBIA, DISTRICT OF COLUMBIA STATE EQUIVALENT, Strand Theater, 5129-5131 Nannie Helen Burroughs Ave., NE., Washington, DC, 08001093, LISTED, 11/25/08

DISTRICT OF COLUMBIA, DISTRICT OF COLUMBIA STATE EQUIVALENT, Third Baptist Church, 1546 5th St., NW., Washington, DC, 08001094, LISTED, 11/26/08

ILLINOIS, COOK COUNTY, Otis Elevator Company Factory Building, 1435 W. 15th St. and 1501 S. Laflin St., Chicago, 08001097, LISTED, 11/26/08

ILLINOIS, DU PAGE COUNTY, Robbins Park Historic District, Bounded by Chicago Ave., 8th St., County Line Rd., and Garfield St., Hinsdale, 08001098, LISTED, 11/26/08

IOWA, WAPELLO COUNTY, Burlington Depot, 210 W. Main St., Ottumwa, 08001100, LISTED, 11/26/08

KENTUCKY, GARRARD COUNTY, Dr. Edwards House, 572 Danville St., Lancaster, 08000650, LISTED, 11/25/08

MARYLAND, ANNE ARUNDEL COUNTY, Universal Lodge No. 14, 64 Clay St., Annapolis, 08001101, LISTED, 11/26/08

MICHIGAN, INGHAM COUNTY, Ottawa Street Power Station, 217 E. Ottawa St., Lansing, 08001103, LISTED, 11/26/08

MICHIGAN, WAYNE COUNTY, Midtown Woodward Historic District, 2951-3424 Woodward, 14 Charlotte, 10 and 25 Peterboro, Detroit, 08001106, LISTED, 11/26/08

NEW JERSEY, BURLINGTON COUNTY, Old Schoolhouse, 35 Brainerd St., Mount Holly, 08001108, LISTED, 11/26/08

NEW JERSEY, SOMERSET COUNTY, Baker-Dauderstadt Farm, 30 DuBois Rd., Warren, 08001109, LISTED, 11/26/08

NEW MEXICO, SAN MIGUEL COUNTY, Park Springs Ranch Headquarters Complex, 11.6 mi. E. of jct. U.S. 84 and NM 451, Dilia vicinity, 08001137, LISTED, 11/28/08

NEW MEXICO, UNION COUNTY, Gate, Fence and Hollow Tree Shelter Designed by Dionicio Rodriguez, 320 Oak St., Clayton, 08001138, LISTED, 11/25/08

OKLAHOMA, COMANCHE COUNTY, Douglass School, 102 E. Gore Blvd., Lawton, 08001148, LISTED, 11/25/08

PENNSYLVANIA, PHILADELPHIA COUNTY, Woman's Medical College of Pennsylvania, 3300 Henry Ave., Philadelphia, 08000785, LISTED, 11/26/08

PUERTO RICO, SAN JUAN MUNICIPALITY, Condado Vanderbilt Hotel, 1055 Ashford Ave., San Juan, 08001110, LISTED, 11/25/08

TENNESSEE, MARION COUNTY, Hale's Bar Dam Powerhouse, 1265 Hale's Bar Rd., Haletown, 08001111, LISTED, 11/25/08

VIRGINIA, LOUDOUN COUNTY, Arcola Slave Quarters, 24837 Evergreen Mills Rd., Arcola, 08001113, LISTED, 11/26/08

VIRGINIA, SUSSEX COUNTY, Glenview, 13098 Comans Well Rd., Stony Creek vicinity, 08001114, LISTED, 11/26/08

WISCONSIN, COLUMBIA COUNTY, Mills, Rob, Block, 109-111 S. Main St., Lodi, 08001115, LISTED, 11/26/08

[FR Doc. E9-294 Filed 1-9-09; 8:45 am]

BILLING CODE 4310-70-P